DEPARTMENT OF COMMERCE

National Oceanic and Atmospheric Administration

Proposed Information Collection; Comment Request; Cooperative Game Fish Tagging Report

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 24, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Eric Orbesen, (305) 361-4253 or Eric.Orbesen@noaa.gov.

SUPPLEMENTARY INFORMATION:

I. Abstract

The Cooperative Tagging Center, National Marine Fisheries Service (NMFS), NOAA attempts to determine the migration patterns and other biological information of billfish, tunas, and swordfish. Fishermen volunteer to tag and release their catch. The fish tagging report is provided to the angler with the tags, and he/she fills out the card with the information when a fish is tagged. Besides the tag number, the card request name, address, date, and club affiliation (if applicable). The card is then mailed back to NMFS where the data is stored.

II. Method of Collection

Information is submitted by mail.

III. Data

OMB Number: 0648-0247.

Form Number: NOAA form 88-162.

Type of Review: Regular submission.

Affected Public: Individuals or households.

Estimated Number of Respondents: 12,000.

Estimated Time per Response: 2 minutes.

Estimated Total Annual Burden Hours: 360.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 15, 2008.
Gwellnar Banks,
Management Analyst, Office of the Chief Information.

[FR Doc. E8-914 Filed 1-18-08; 8:45 am]

BILLING CODE 3510-22-P